DEPARTMENT OF THE INTERIOR

Fish and Wildlife Service

[FWS-R1-ES-2017-N027; FXES11130100000-178-FF01E00000]

Endangered Species; Recovery Permit Applications

AGENCY: Fish and Wildlife Service, Interior.

ACTION: Notice of receipt of permit applications and availability; request for comments.

SUMMARY: We, the U.S. Fish and Wildlife Service, invite the public to comment on the following applications for a permit to conduct activities intended to recover and enhance the survival of endangered species. With some exceptions, the Endangered Species Act of 1973, as amended (Act) prohibits certain activities that may impact endangered species unless a Federal permit allows such activity. The Act also requires that we invite public comment before issuing these permits.

DATES: To ensure consideration, please send your written comments by May 26, 2017.

ADDRESSES: Please specify the permit you are interested in by number (e.g., Permit No. TE-123456).

• Email: permitsR1ES@fws.gov. Please refer to the respective permit number (e.g., Permit No. TE-123456) in the subject line of the message.

• U.S. Mail: Program Manager, Restoration and Endangered Species Classification, Ecological Services, U.S. Fish and Wildlife Service, Pacific Regional Office, 911 NE 11th Avenue, Portland, OR 97232-4181.

FOR FURTHER INFORMATION CONTACT: Colleen Henson, Recovery Permits Coordinator, at the above address or email, or by telephone (503-231-6131) or fax (503-231-6243).

SUPPLEMENTARY INFORMATION:

Background

The Act (16 U.S.C. 1531 et seq.) prohibits certain activities with endangered and threatened species unless authorized by a Federal permit. The Act and our implementing regulations in part 17 of title 50 of the Code of Federal Regulations (CFR) provide for the issuance of such permits and require that we invite public comment before issuing permits for activities involving endangered species.

A permit granted by us under section 10(a)(1)(A) of the Act authorizes the permittee to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the permit number for the application when submitting comments.

Documents and other information submitted with these applications are available for review by any party who submits a written request to the Program Manager for Restoration and Endangered Species Classification at the address listed in the ADDRESSES section of this notice. Requests must be submitted within 30 days of the date of publication of this notice. Release of documents is subject to the requirements of the Privacy Act (5 U.S.C. 552a) and the Freedom of Information Act (5 U.S.C. 552).

Permit Applications

Proposed activities in the following permit requests are for the recovery and enhancement of survival of the species.

Application No. | Applicant | Species | Location | Activity | Type of take | Permit action
TE-014497 | Haleakala National Park, Kula, Hawaii | Nothocestrum latifolium (‘aiea), Joinvillea ascendens ascendens (‘ohe), Cyclosorus boydiae (Boyds maiden fern), Ochrosia haleakalae (Holei), Ranunculus hawaiiensis (makou), Ranunculus mauiensis (makou), Microlepia strigosa var. mauiensis (Maui fern), Calamagrostis expansa (Maui reedgrass), Gardenia remyi (nanu), Phyllostegia brevidens (no common name (NCN)), Sanicula sandwicensis (NCN), Schiedea diffusa ssp diffusa (NCN), Schiedea diffusa ssp diffusa (NCN) | Island of Maui | Remove and reduce to possession | Survey, collect, propagate, and outplant | Amend.
TE-19239B | Washington Department of Fish and Wildlife, Olympia, Washington | Taylor's checkerspot butterfly (Euphydryas editha taylori) | Oregon and Washington | Assess population genetics and identify/confirm the location of new populations | Capture, handle, release, biosample, collect voucher specimens | Amend.
TE-22353B | Center for Natural Lands Management, Temecula, California | Taylor's checkerspot butterfly (Euphydryas editha taylori) | Oregon and Washington | Survey, larval predation monitoring, oviposition monitoring, camera monitoring | Capture, handle, release, survey, monitor | Amend.
TE-19045C | Hawaii Division of Forestry and Wildlife, Honolulu, Hawaii | Lanai tree snail (Partulina semicarinata), Lanai tree snail (Partulina variabilis), Newcomb's tree snail (Newcombia cumingi), Oahu tree snail (Achatinella spp.) | Islands of Lanai, Maui, and Oahu | Captive propagation and release | Capture, handle, captive propagate, and release | New.
TE-19076C | Guam Department of Agriculture, Mangilao, Guam | Mariana eight-spot butterfly (Hypolimnas octocula marianensis) | Island of Guam | Establish a captive propagation program | Capture, handle, survey, captive propagation, release | New.

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: February 22, 2017.
Theresa Rabot,
Deputy Regional Director U.S. Fish and Wildlife Service.

[FR Doc. 2017-08405 Filed 4-25-17; 8:45 am]

BILLING CODE 4333-15-P